INSTITUTE OF PEACE

Notice of Meeting

AGENCY: United States Institute of Peace.

Date/Time: Thursday, November 16, 2000, 9 a.m.-5:30 p.m.

Location: 1200 17th Street, NW, Suite 200—Conference Room, Washington, DC 20036.

Status: Open Session—Portions may be closed pursuant to Subsection (c) of Section 552(b) of Title 5, United States Code, as provided in subsection 1706(h)(3) of the United States Institute of Peace Act, Public Law 98-525.

Agenda: November 2000 Board Meeting; Approval of Minutes of the Ninety-Sixth Meeting (September 14, 2000) of the Board of Directors; Chairman's Report; President's Report; Committee Reports; Other General Issues.

Contact: Dr. Sheryl Brown, Director, Office of Communications, Telephone: (202) 457-1700.

Dated: October 30, 2000.
Charles E. Nelson,
Vice President for Management and Finance, United States Institute of Peace.

[FR Doc. 00-28262 Filed 10-31-00; 1:36 pm]

BILLING CODE 6820-AR-M